DEPARTMENT OF AGRICULTURE

Forest Service

Ash Creek Fire Salvage, Umpqua National Forest, Douglas County, OR

AGENCY: Forest Service, USDA.

ACTION: Correction.

SUMMARY: In notice document 03-6686 on page 13666 in the issue of Thursday, March 20, 2003, make the following corrections:

In the third column the FOR FURTHER INFORMATION CONTACT was previously listed as Alan Baurman. This should be changed to read Alan Baumann.

The last sentence in the first paragraph of SUPPLEMENTARY INFORMATION the legal description of Planning Area should be changed. The legal description of Planning Area should read—The Planning Area includes all or portions of sections 27-29 and 32-34 of T. 28 S., R.1 E; sections 3-9, 16-21, 29-31 of T. 29 S., R.1 E; sections 13-14, 22-27, 35-36, of T. 29 S., R.1 W; and sections 1-2 of T. 30 S., R. 1W, Willamette Meridian, Douglas County, Oregon.

Dated: April 18, 2003.
James A. Caplan,
Forest Supervisor.

[FR Doc. 03-10724 Filed 4-30-03; 8:45 am]

BILLING CODE 3410-11-M